DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of a portion of the subdivisional lines and the subdivision of section 11, T. 17 N., R. 1 W., of the Boise Meridian, Idaho, Group Number 1333, was accepted January 11, 2012.

The plat representing the dependent resurvey of a portion of the subdivisional lines, and the subdivision of section 15, and a metes-and-bounds survey in section 15, T. 1 S., R. 20 E., Boise Meridian, Idaho, Group Number 1347, was accepted February 3, 2012.

The plat representing the dependent resurvey of portions of the subdivisional lines and meander lines of the Salmon River, and the subdivision of sections 11 and 14, T. 14 N., R. 19 E., Boise Meridian, Idaho, Group Number 1318 was accepted February 8, 2012.

The plat representing the dependent resurvey of portions of the north boundary and subdivisional lines, and the survey of the 2010 meanders of a portion of Round Valley Island in section 2, T. 13 N., R. 19 E., of the Boise Meridian, Idaho, Group Number 1331, was accepted February 9, 2012.

The plat constituting the entire survey record of the dependent resurvey of portions of the north and east boundaries and subdivisional lines, and the subdivision of sections 12 and 13, T. 8 N., R. 38 E., Boise Meridian, Idaho, Group Number 1335, was accepted February 17, 2012.

The plat representing the dependent resurvey of portions of the east boundary and subdivisional lines, and the subdivision of section 25, T. 4 N., R. 40 E., of the Boise Meridian, Idaho, Group Number 1334, was accepted February 22, 2012.

The plat representing the dependent resurvey of a portion of the subdivisional lines, and the subdivision of sections 8, 9, and 17, and the metes-and-bounds survey of lots 1 through 13, in section 8,T. 3 N., R. 18 E., of the Boise Meridian, Idaho, Group Number 1310, was accepted March 21, 2012.

This survey was executed at the request of the Bureau of Indian Affairs to meet their administrative needs. The lands surveyed are:

The plat representing the dependent resurvey of portions of the 7th Standard Parallel North (south boundary) and subdivisional lines, and the subdivision of sections 27, 34, and 35, T. 36 N., R. 1 E., of the Boise Meridian, Idaho, Group Number 1315, was accepted March 7, 2012.

The plat representing the dependent resurvey of a portion of the subdivisional lines, and the subdivision of sections 10 and 17, T. 45 N., R. 5 W., of the Boise Meridian, Idaho, Group Number 1321, was accepted March 21, 2012.

This survey was executed at the request of the U.S.D.A. Forest Service to meet their administrative needs. The lands surveyed are:

The plat constituting the dependent resurvey of a portion of the south boundary and the survey of a portion of the subdivisional lines, T. 8 N., R. 13 East, of the Boise Meridian, Idaho, Group Number 1326, was accepted August 31, 2011.

Dated: April 3, 2012.
Stanley G. French,
Chief Cadastral Surveyor for Idaho.

[FR Doc. 2012-8657 Filed 4-10-12; 8:45 am]

BILLING CODE 4310-GG-P